SECURITIES AND EXCHANGE COMMISSION

Sunshine Act Meeting; Correction

FEDERAL REGISTER CITATION OF PREVIOUS ANNOUNCEMENT: 81 FR 17225, March 28, 2016.

PREVIOUSLY ANNOUNCED TIME AND DATE OF THE MEETING: Wednesday, March 30, 2016 at 10 a.m.

CHANGES IN THE MEETING: The Open Meeting scheduled for Wednesday, March 30, 2016 at 10 a.m., has been changed to Wednesday, April 13, 2016 at 10 a.m.

CONTACT PERSON FOR MORE INFORMATION: For further information and to ascertain what, if any, matters have been added, deleted or postponed, please contact the Office of the Secretary at (202) 551-5400.

March 25, 2016.
Brent J. Fields,
Secretary.

[FR Doc. 2016-07224 Filed 3-28-16; 4:15 pm]

BILLING CODE 8011-01-P